DEPARTMENT OF COMMERCE

National Oceanic and Atmospheric Administration

[RTID 0648-XB685]

New England Fishery Management Council; Public Meeting

AGENCY: National Marine Fisheries Service (NMFS), National Oceanic and Atmospheric Administration (NOAA), Commerce.

ACTION: Notice; public meeting.

SUMMARY: The New England Fishery Management Council (Council) is scheduling a public joint meeting of its Habitat Committee via webinar to consider actions affecting New England fisheries in the exclusive economic zone (EEZ). Recommendations from this group will be brought to the full Council for formal consideration and action, if appropriate.

DATES: This meeting will be held on Tuesday, January 18, 2022 at 9 a.m.

ADDRESSES: All meeting participants and interested parties can register to join the webinar at https://attendee.gotowebinar.com/register/6570510383641205518.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee plans a discussion to designate a Habitat Area of Particular Concern in Southern New England: Articulate the problem and rationale for action, discuss potential objectives, and identify information sources to consider. Potentially recommend that the Council initiate a framework adjustment at their next meeting. Also on the agenda is the Northern Edge habitat management: Discuss a white paper documenting new information to consider should the Council wish to revise habitat management areas and restrictions on fishing in this region. The Committee can request additional information or analysis that would support future Council decision making on this issue. Because this action is not a 2022 work priority, the next Council decision on Northern Edge habitat management would be related to future prioritization of this work.

The committee will also review a draft letter expressing Council concerns about the Amitie telecommunications cable project. Other business may be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the date. This meeting will be recorded. Consistent with 16 U.S.C. 1852, a copy of the recording is available upon request.

Authority: 16 U.S.C. 1801 et seq.

Dated: January 3, 2022.
Tracey L. Thompson,
Acting Deputy Director, Office of Sustainable Fisheries, National Marine Fisheries Service.

[FR Doc. 2022-00039 Filed 1-5-22; 8:45 am]

BILLING CODE 3510-22-P